DEPARTMENT OF LABOR

Employment and Training Administration

[TA-W-70,818]

Classic Moving and Storage, Inc. and Boyles Distinctive Furniture, Inc., Wholly-Owned Subsidiaries of Hendricks Furniture Group, LLC, Conover, NC; Notice of Termination of Investigation

Pursuant to Section 221 of the Trade Act of 1974, as amended, an investigation was initiated on June 1, 2009, in response to a petition filed by a former company official on behalf of workers of Classic Moving and Storage, Inc., and Boyles Distinctive Furniture, Inc., wholly-owned subsidiaries of Hendricks Furniture Group, LLC, Conover, North Carolina.

The petitioning groups of workers are covered by an active certification, (TA-W-64,289) which expires on January 9, 2011. Consequently, further investigation in this case would serve no purpose, and the investigation has been terminated.

Signed at Washington, DC, this 13th day of August 2009.
Richard Church,
Certifying Officer, Division of Trade Adjustment Assistance.

[FR Doc. E9-20452 Filed 8-25-09; 8:45 am]

BILLING CODE 4510-FN-P